DEPARTMENT OF HEALTH AND HUMAN SERVICES

Administration for Children and Families

Proposed Information Collection Activity; Comment Request

Proposed Projects

Title: National Extranet Optimized Runaway and Homeless Youth Management Information System (NEO-RHYMIS).

OMB No. 0970-0123.

Description: The Runaway and Homeless Youth Act (RHYA), as amended by Pub. L. 106-71 (42 U.S.C. 5701 et seq.), mandates that the Department of Health and Human Services (HHS) report regularly to Congress on the status of HHS-funded programs serving runaway and homeless youth. Such reporting is similarly mandated by the Government Performance and Results Act. Organizations funded under the Runaway and Homeless Youth (RHY) program are required by statute (42 U.S.C. 5712, 42 U.S.C. 5714-2) to meet certain data collection and reporting requirements. These requirements include maintenance of client statistical records on the number and the characteristics of the runaway and homeless youth, and youth at risk of family separation, who participate in the project; and the services provided to such youth by the project.

Respondents: Public and private, community-based nonprofit and faith-based organizations receiving HHS funds for services to runaway and homeless youth.

Annual Burden Estimates:

Instrument | Number of respondents | Number of responses per respondent | Average burden hours per response | Total burden hours
Youth Profile | 535 | 153 | 0.25 | 20,464
Street Outreach Report | 147 | 4211 | 0.02 | 12,380
Brief Contacts | 535 | 305 | 0.15 | 24,476
Turnaways | 535 | 13 | 0.1 | 696
Data Transfer | 535 | 2 | 0.5 | 535

Estimated Total Annual Burden Hours: 58,551.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 29, 2004
Robert Sargis,
Reports Clearance Officer.

[FR Doc. 04-2172 Filed 2-2-04; 8:45 am]

BILLING CODE 4184-01-M